DEPARTMENT OF HEALTH AND HUMAN SERVICES

National Institutes of Health

Center for Scientific Review; Amended Notice of Meeting

Notice is hereby given of a change in the meeting of the Modeling and Analysis of Biological Systems Study Section, October 10, 2013, 08:00 a.m. to October 11, 2013, 04:00 p.m., The William F. Bolger Center, 9600 Newbridge Drive, Potomac, MD 20854, which was published in the Federal Register on September 11, 2013, 78 FR 176 Pgs. 55752-55753.

The meeting will start on December 3, 2013 at 8:00 a.m. and end December 3 2013 at 6:00 p.m. The meeting location remains the same. The meeting is closed to the public.

Dated: October 29, 2013.
Melanie J. Gray,
Program Analyst, Office of Federal Advisory Committee Policy.

[FR Doc. 2013-26155 Filed 11-1-13; 8:45 am]

BILLING CODE 4140-01-P